DEPARTMENT OF ENERGY

Federal Energy Regulatory Commission

[Docket No. CP11-68-000]

Equitrans, L.P.; Notice of Availability of the Environmental Assessment for the Proposed Sunrise Pipeline Project

The staff of the Federal Energy Regulatory Commission (Commission or FERC) has prepared this environmental assessment (EA) for the Sunrise Pipeline Project proposed by Equitrans, L.P. (Equitrans) in the above referenced docket. This Project expands Equitrans' natural gas pipeline system in Pennsylvania and West Virginia in order to increase the natural gas delivery capacity to the northeast region of the United States by approximately 313,560 dekatherms per day and improve the reliability of its existing system.

The EA assesses the potential environmental effects of the Project construction and operation in accordance with the requirements of the National Environmental Policy Act of 1969 (NEPA). The FERC staff concludes that approval of the Project, with appropriate mitigating measures, would not constitute a major federal action significantly affecting the quality of the human environment.

The proposed Sunrise Pipeline Project includes the following facilities in Greene County, Pennsylvania and Wetzel County, West Virginia:

• Approximately 44.4 miles of new pipeline varying from 16-inch to 24-inch-diameter, 2.6 miles of replacement pipeline, and retesting and uprating of 4.8 miles of pipeline;

• One new compressor station in Jefferson Township, Greene County, Pennsylvania;

• Aboveground facilities consisting of 5 interconnect sites (meter stations), 12 mainline block valves, 4 pig ¹ launchers/receivers, 2 over-pipeline protection facilities, and 1 side tap valve setting; and

¹ A pig is an internal tool that can be used to clean and dry a pipeline and/or to inspect it for damage or corrosion.

• Temporary and permanent access roads and temporary storage and contractor yards.

The EA has been placed in the public files of the FERC and is available for public viewing on the FERC's Web site at http://www.ferc.gov using the eLibrary link. A limited number of copies of the EA are available for distribution and public inspection at: Federal Regulatory Energy Commission, Public Reference Room, 888 First Street, NE., Room 2A, Washington, DC 20426, (202) 502-8371.

Copies of the EA have been mailed to federal, state and local government agencies; elected officials; environmental and public interest groups; Native American tribes; local libraries and newspapers; intervenors to the FERC's proceedings; and affected landowners, potentially affected landowners, and other interested individuals and groups.

Any person wishing to comment on the EA may do so. Your comments should focus on the potential environmental effects, reasonable alternatives, and measures to avoid or lessen environmental impacts. The more specific your comments, the more useful they will be. To ensure that your comments are properly recorded and considered prior to a Commission decision on the proposal, it is important that we receive your comments in Washington, DC on or before June 10, 2011.

For your convenience, there are three methods you can use to submit your comments to the Commission. In all instances, please reference the project docket number CP11-68-000 with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or,

(3) You may file a paper copy of your comments at the following address: Kimberly D. Bose, Secretary, Federal Energy Regulatory Commission, 888 First Street, NE., Room 1A, Washington, DC 20426.

Although your comments will be considered by the Commission, simply filing comments will not serve to make the commentor a party to the proceeding. Any person seeking to become a party to the proceeding must file a motion to intervene pursuant to Rule 214 of the Commission's Rules of Practice and Procedures (18 CFR 385.214) .² Only intervenors have the right to seek rehearing of the Commission's decision.

² Interventions may also be filed electronically via the Internet in lieu of paper. See the previous discussion of filing comments electronically.

Affected landowners and parties with environmental concerns may be granted intervenor status upon showing good cause by stating that they have a clear and direct interest in this proceeding which would not be adequately represented by any other parties. You do not need intervenor status to have your comments considered.

Additional information about the Project is available from the Commission's Office of External Affairs at (866) 208-FERC or on the FERC Web site (http://www.ferc.gov) using the eLibrary link. Click on the eLibrary link, then on “General Search” and enter the docket number excluding the last three digits in the Docket Number field (i.e., CP11-68). Be sure you have selected an appropriate date range. For assistance, please contact FERC online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Date: May 11, 2011.
Kimberly D. Bose,
Secretary.

[FR Doc. 2011-12118 Filed 5-17-11; 8:45 am]

BILLING CODE 6717-01-P